DEPARTMENT OF STATE

[Public Notice 4394]

Bureau of Nonproliferation; Nonproliferation Measures Imposed on an Entity in China, Including a Ban on U.S. Government Procurement

AGENCY: Bureau of Nonproliferation, Department of State.

ACTION: Notice.

The U.S. Government has determined that the effective date of Public Notice 4370 (68 Federal 28314), concerning the imposition of measures on North China Industries Corporation (NORINCO), is the date of publication of that Notice in the Federal Register, May 23, 2003.

FOR FURTHER INFORMATION CONTACT: On general issues: Vann H. Van Diepen, Office of Chemical, Biological, and Missile Nonproliferation, Bureau of Nonproliferation, Department of State, (202-647-1142). On import ban issues, Rochelle E. Stern, Chief, Policy Planning and Program Management Division, Office of Foreign Assets Control, Department of the Treasury, (202-622-2500). On U.S. Government procurement ban issues: Gladys Gines, Office of the Procurement Executive, Department of State, (703-516-1691).

Dated: July 1, 2003.
Andrew K. Semmel,
Acting Assistant Secretary of State for Nonproliferation, Department of State.

[FR Doc. 03-17203 Filed 7-7-03; 8:45 am]

BILLING CODE 4710-25-P